DEPARTMENT OF HEALTH AND HUMAN SERVICES

National Institutes of Health

National Cancer Institute Cancellation; Notice of Meeting

Notice is hereby given of the cancellation of the National Cancer Institute Special Emphasis Panel, November 01, 2018, 11:00 a.m. to November 01, 2018, 2:00 p.m., National Cancer Institute Shady Grove, Shady Grove, 9609 Medical Center Drive, Rockville, MD, 20850 which was published in the Federal Register on August 7, 2018, 83 FR 38710.

This meeting has been cancelled. The applications have been assigned to another meeting for review.

Dated: August 20, 2018.
Melanie J. Pantoja,
Program Analyst, Office of Federal Advisory Committee Policy.

[FR Doc. 2018-18400 Filed 8-24-18; 8:45 am]

BILLING CODE 4140-01-P